DEPARTMENT OF TRANSPORTATION

Federal Aviation Administration

14 CFR Part 71

[Docket No. FAA-2021-0821; Airspace Docket No. 21-ASW-1]

RIN 2120-AA66

Amendment, Establishment, and Revocation of Multiple Air Traffic Service (ATS) Routes in the Vicinity of Borger, TX

AGENCY: Federal Aviation Administration (FAA), DOT.

ACTION: Final rule.

SUMMARY: This action amends Jet Route J-8 and VHF Omnidirectional Range (VOR) Federal airway V-272; establishes Area Navigation (RNAV) route T-420; and removes Jet Route J-142 and VOR Federal airways V-304 and V-390. The FAA is taking this action due to the planned decommissioning of the VOR portion of the Borger, TX, VOR/Tactical Air Navigation (VORTAC) navigational aid (NAVAID). The Borger VOR is being decommissioned in support of the FAA's VOR Minimum Operational Network (MON) program.

DATES: Effective date 0901 UTC, July 14, 2022. The Director of the Federal Register approves this incorporation by reference action under 1 CFR part 51, subject to the annual revision of FAA Order JO 7400.11 and publication of conforming amendments.

ADDRESSES: FAA Order JO 7400.11F, Airspace Designations and Reporting Points, and subsequent amendments can be viewed online at https://www.faa.gov/air_traffic/publications/. For further information, you can contact the Rules and Regulations Group, Federal Aviation Administration, 800 Independence Avenue SW, Washington, DC 20591; telephone: (202) 267-8783.

FOR FURTHER INFORMATION CONTACT: Colby Abbott, Rules and Regulations Group, Policy Directorate, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as necessary to preserve the safe and efficient flow of air traffic within the National Airspace System.

History

The FAA published a notice of proposed rulemaking (NPRM) for Docket No. FAA-2021-0821 in the Federal Register (86 FR 60418; November 2, 2021), amending Jet Route J-8 and VOR Federal airway V-272; establishing RNAV route T-420; and removing Jet Route J-142 and VOR Federal airways V-304 and V-390. The proposed amendment actions were due to the planned decommissioning of the VOR portion of the Borger, TX, VORTAC NAVAID. Interested parties were invited to participate in this rulemaking effort by submitting written comments on the proposal. No comments were received.

Subsequent to the NPRM, the FAA published a rule for Docket No. FAA-2021-0632 in the Federal Register (87 FR 24860; April 27, 2022), amending J-8 by removing the airway segment overlying the Kingfisher, OK, VORTAC between the Borger, TX, VORTAC and the Springfield, MO, VORTAC. That airway amendment is effective July 14, 2022, also and is included in this rule.

Jet Routes are published in paragraph 2004, VOR Federal airways are published in paragraph 6010(a), and United States RNAV T-routes are published in paragraph 6011 of FAA Order JO 7400.11F, dated August 10, 2021, and effective September 15, 2021, which is incorporated by reference in 14 CFR 71.1. The ATS routes listed in this document will be published subsequently in FAA Order JO 7400.11.

Availability and Summary of Documents for Incorporation by Reference

This document amends FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

The Rule

This action amends 14 CFR part 71 by modifying Jet Route J-8 and VOR Federal airway V-272; establishing RNAV route T-420; and removing Jet Route J-142 and VOR Federal airways V-304 and V-390 due to the planned decommissioning of the Borger, TX, VOR. The ATS route actions are described below.

J-8: J-8 extends between the Needles, CA, VORTAC and the Borger, TX, VORTAC; and between the Springfield, MO, VORTAC and the Casanova, VA, VORTAC. The route segment between the Fort Union, NM, VORTAC and the Borger, TX, VORTAC is removed. The unaffected portions of the existing airway remain as charted.

J-142: J-142 extends between the Socorro, NM, VORTAC and the Borger, TX, VORTAC. The route segment between the Anton Chico, NM, VORTAC and the Borger VORTAC is removed due to the planned decommissioning of the Borger VOR. Additionally, the remaining route segment between the Socorro VORTAC and the Anton Chico VORTAC is also removed due to the distance between the VORTACs being within NAVAID service volumes and pilots can file direct. As a result, the route is removed in its entirety.

V-272: V-272 extends between the Dalhart, TX, VORTAC and the Will Rogers, OK, VORTAC. The airway segment overlying the Borger, TX, VORTAC between the Dalhart VORTAC and the Burns Flat, OK, VORTAC is removed. The unaffected portions of the existing airway remain as charted.

V-304: V-304 extends between the Panhandle, TX, VORTAC and the Lamar, CO, VOR/Distance Measuring Equipment (VOR/DME). The airway segment between the Panhandle VORTAC and Liberal, KS, VORTAC is removed due to the planned decommissioning of the Borger VOR. Additionally, the remaining airway segment between the Liberal VORTAC and the Lamar VOR/DME is removed due to it overlying V-210 which will remain available for use by NAS users. As a result, the airway is removed in its entirety.

V-390: V-390 extends between the Tucumcari, NM, VORTAC and the Mitbee, OK, VORTAC. The airway is removed in its entirety.

T-420: T-420 is a new route that extends between the Dalhart, TX, VORTAC and the Will Rogers, OK, VORTAC. This T-route mitigates the removal of the V-272 airway segment between the Dalhart, TX, VORTAC and the Burns Flat, OK, VORTAC (noted above), as well as provides RNAV routing capability between the Dalhart, TX, area and the Oklahoma City, OK, area.

The NAVAID radials listed in the Jet Route description below are unchanged and stated in True degrees.

FAA Order JO 7400.11, Airspace Designations and Reporting Points, is published yearly and effective on September 15.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action of modifying Jet Route J-8 and VOR Federal airway V-272; establishing RNAV route T-420; and removing Jet Route J-142 and VOR Federal airways V-304 and V-390, due to the planned decommissioning of the Borger, TX, VOR NAVAID, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 2004 Jet Routes.

* * * * *

J-8 [Amended]

From Needles, CA; Flagstaff, AZ; Gallup, NM; to Fort Union, NM. From Springfield, MO; St Louis, MO; Louisville, KY; Charleston, WV; INT Charleston 092° and Casanova, VA, 253° radials; to Casanova.

* * * * *

J-142 [Removed]

* * * * *

Paragraph 6010(a) Domestic VOR Federal Airways.

* * * * *

V-272 [Amended]

From Burns Flat, OK; to Will Rogers, OK.

* * * * *

V-304 [Removed]

* * * * *

V-390 [Removed]

* * * * *

Paragraph 6011 United States Area Navigation Routes.

* * * * *

T-420 Dalhart, TX (DHT) to Will Rogers, OK (IRW) [New]
Dalhart, TX (DHT) | VORTAC | (Lat. 36°05′29.24″ N, long. 102°32′40.71″ W)
Burns Flat, OK (BFV) | VORTAC | (Lat. 35°14′13.00″ N, long. 099°12′22.20″ W)
Will Rogers, OK (IRW) | VORTAC | (Lat. 35°21′30.95″ N, long. 097°36′33.22″ W)

Issued in Washington, DC, on April 28, 2022.
Scott M. Rosenbloom,
Manager, Airspace Rules and Regulations.

[FR Doc. 2022-09509 Filed 5-5-22; 8:45 am]

BILLING CODE 4910-13-P